DEPARTMENT OF TRANSPORTATION

Federal Aviation Administration

14 CFR Part 39

[Docket No. 99-NM-309-AD; Amendment 39-11539; AD 2000-02-21]

RIN 2120-AA64

Airworthiness Directives; British Aerospace (Jetstream) Model 4101 Airplanes

AGENCY: Federal Aviation Administration, DOT.

ACTION: Final rule.

SUMMARY: This amendment adopts a new airworthiness directive (AD), applicable to all British Aerospace (Jetstream) Model 4101 airplanes, that requires manufacture and installation of a placard on the left-hand instrument panel in the cockpit to prohibit push-backs of the airplane while the engines are running. In lieu of accomplishing the placard installation, this amendment requires repetitive installation of a new tow bracket sub-assembly that has the serial number and date of installation vibro etched on it. This amendment is prompted by issuance of mandatory continuing airworthiness information by a foreign civil airworthiness authority. The actions specified by this AD are intended to prevent fatigue failure of the towing bracket. Failure of the towing bracket could cause a towing vehicle to collide into the propeller while the airplane engines are running, and consequently, cause damage to the airplane, and injure ground personnel, flight crew, or passengers.

DATES: Effective March 9, 2000.

The incorporation by reference of certain publications listed in the regulations is approved by the Director of the Federal Register as of March 9, 2000.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all British Aerospace (Jetstream) Model 4101 airplanes was published in the Federal Register on November 24, 1999 (64 FR 66121). That action proposed to require manufacture and installation of a placard on the left-hand instrument panel in the cockpit to prohibit push-backs of the airplane while the engines are running. In lieu of accomplishing the placard installation, the action proposed to require repetitive installation of a new tow bracket sub-assembly that has the serial number and date of installation vibro etched on it.

Comments

Interested persons have been afforded an opportunity to participate in the making of this amendment. No comments were submitted in response to the proposal or the FAA's determination of the cost to the public.

Change Made to the Final Rule

Paragraph (b) of the final rule has been changed to correct the citation of Jetstream Service Bulletin J41-32-070, Revision 1, dated September 14, 1999. “Revision 1” was inadvertently omitted in the citation.

Conclusion

After careful review of the available data, the FAA has determined that air safety and the public interest require the adoption of the rule with the change described previously. The FAA has determined that this change will neither increase the economic burden on any operator nor increase the scope of the AD.

Cost Impact

The FAA estimates that 59 airplanes of U.S. registry will be affected by this AD.

It will take approximately 1 work hour per airplane to accomplish the required placard installation, at an average labor rate of $60 per work hour. Based on these figures, the cost impact of the placard installation required by this AD on U.S. operators is estimated to be $3,540, or $60 per airplane.

The cost impact figure discussed above is based on assumptions that no operator has yet accomplished any of the requirements of this AD action, and that no operator would accomplish those actions in the future if this AD were not adopted.

Should an operator elect to accomplish the optional action that is provided by this AD action, it will take approximately 2 work hours per airplane to accomplish it, at an average labor rate of $60 per work hour. The cost of required parts will be approximately $733 per airplane. Based on these figures, the cost impact of the optional action will be $853 per airplane, per replacement cycle.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-02-21 British Aerospace Regional Aircraft [Formerly Jetstream Aircraft Limited; British Aerospace (Commercial Aircraft) Limited]: Amendment 39-11539. Docket 99-NM-309-AD.

Applicability: All Model Jetstream 4101 airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent fatigue failure of the towing bracket, which could cause a towing vehicle to collide into the propeller while the airplane engines are running, and consequently, could cause damage to the airplane, and injure ground personnel, flight crew, or passengers, accomplish the following:

Placard Installation

(a) Prior to the accumulation of 12,000 total landings on the shock strut of the nose landing gear (NLG), or within 5 days after the effective date of this AD, whichever occurs later: Except as provided by paragraph (b) of this AD, manufacture and install a placard on the left-hand instrument panel in the cockpit to prohibit push-backs with engines running, in accordance with Jetstream Alert Service Bulletin J41-11-024, dated May 11, 1999.

Repetitive Action

(b) In lieu of accomplishing the actions specified in paragraph (a) of this AD, at the time specified in paragraph (a) of this AD, vibro etch the serial number and date of installation on a new tow bracket sub-assembly; and install the new tow bracket sub-assembly, in accordance with Jetstream Service Bulletin J41-32-070, Revision 1, dated September 14, 1999. Repeat the vibro etch process and installation of a new sub-assembly thereafter at intervals not to exceed 12,000 landings on the shock strut of the NLG.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Jetstream Alert Service Bulletin J41-11-024, dated May 11, 1999; or Jetstream Service Bulletin J41-32-070, Revision 1, dated September 14, 1999; as applicable. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 3: The subject of this AD is addressed in British airworthiness directive 004-05-99.

(f) This amendment becomes effective on March 9, 2000.

Issued in Renton, Washington, on January 24, 2000.
Donald L. Riggin,
Acting Manager, Transport Airplane Directorate, Aircraft Certification Service.

[FR Doc. 00-2088 Filed 2-2-00; 8:45 am]

BILLING CODE 4910-13-P